DEPARTMENT OF JUSTICE

Office of Justice Programs

[OJP (NIJ) Docket No. 1591]

Draft Standards and Best Practices for Interaction Between Medical Examiner/Coroner and Organ and Tissue Procurement Organizations

AGENCY: National Institute of Justice, DOJ.

ACTION: Notice of extended comment period and request for comments.

SUMMARY: In an effort to obtain further comments from interested parties, the U.S. Department of Justice, Office of Justice Programs, National Institute of Justice, Scientific Working Group for Medicolegal Death Investigation has extended the deadline for comments on the draft document titled “Organ and Tissue Procurement Committee Standards and Best Practices for Interaction Between Medical Examiner/Coroner Offices and Organ Tissue Procurement Organizations” from May 12, 2012, to June 11, 2012. Notice of the availability of this document was published previously in the Federal Register at 77 FR 24573, on April 24, 2012, as OJP (NIJ) Docket No. 1589. The opportunity to provide comments on this document is open to coroner/medical examiner office representatives, law enforcement agencies, organizations, and all other stakeholders and interested parties. Those individuals wishing to obtain and provide comments on the draft document under consideration are directed to the following Web site: http://www.swgmdi.org.

DATES: Comments must be received on or before the extended deadline of June 11, 2012.

FOR FURTHER INFORMATION CONTACT: Patricia Kashtan, by telephone at 202-353-1856 [Note: this is not a toll-free telephone number], or by email at Patricia.Kashtan@usdoj.gov.

John H. Laub,
Director, National Institute of Justice.

[FR Doc. 2012-12527 Filed 5-23-12; 8:45 am]

BILLING CODE 4410-18-P